DEPARTMENT OF COMMERCE

Foreign-Trade Zones Board

[B-4-2024]

Foreign-Trade Zone 96—Eagle Pass, Texas; Application for Reorganization and Expansion Under Alternative Site Framework

An application has been submitted to the Foreign-Trade Zones (FTZ) Board by the City of Eagle Pass, grantee of FTZ 96, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on January 16, 2024.

FTZ 96 was approved by the FTZ Board on November 22, 1983 (Board Order 237, 48 FR 53738, November 29, 1983).

The current zone includes the following sites: Site 1 (188 acres)—Eagle Pass Industrial Park, Industrial Boulevard and Brown Street, Eagle Pass; Site 2 (17 acres)—City's Mini Industrial Park, Industrial Boulevard and Adams Street, Eagle Pass; Site 3 (1,100 acres)—Maverick County Airport, U.S, Highway 277, Eagle Pass; and, Site 4 (55 acres)—located on State Highway 1588 near Highway 277, Eagle Pass.

The grantee's proposed service area under the ASF would be Maverick County, Texas, as described in the application. If approved, the grantee would be able to serve sites throughout the service area based on companies' needs for FTZ designation. The application indicates that the proposed service area is within and adjacent to the Eagle Pass Customs and Border Protection port of entry.

The applicant is requesting authority to reorganize and expand its existing zone as follows: (1) remove existing Sites 1, 2 and 4 from the zone; (2) modify Site 3 by removing and adding acreage (new site total—562.71 acres); and, (3) modified Site 3 would become a “magnet” site. The ASF allows for the possible exemption of one magnet site from the “sunset” time limits that generally apply to sites under the ASF, and the applicant proposes that modified Site 3 be so exempted.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is March 22, 2024. Rebuttal comments in response to material submitted during the foregoing period may be submitted during the subsequent 15-day period to April 8, 2024.

A copy of the application will be available for public inspection in the “Online FTZ Information Section” section of the FTZ Board's website, which is accessible via www.trade.gov/ftz. For further information, contact Camille Evans at Camille.Evans@trade.gov.

Dated: January 16, 2024.
Elizabeth Whiteman,
Executive Secretary.

[FR Doc. 2024-01078 Filed 1-19-24; 8:45 am]

BILLING CODE 3510-DS-P